DEPARTMENT OF HOMELAND SECURITY

Coast Guard

[USCG-2007-27372]

Towing Safety Advisory Committee

AGENCY: Coast Guard, DHS.

ACTION: Notice of meetings.

SUMMARY: The Towing Vessel Inspection Working Group of the Towing Safety Advisory Committee (TSAC) will meet to discuss matters relating to these specific issues of towing safety. The meetings will be open to the public.

DATES: The Towing Vessel Inspection Working Group will meet on Tuesday, March 27, 2007 from 9 a.m. to 5 p.m. and on Wednesday, March 28, 2007 from 9 a.m. to 3 p.m. The meetings may close early if all business is finished. Written material and requests to make oral presentations should reach the Coast Guard on or before March 14, 2007. Requests to have a copy of your material distributed to each member of the Working Group should reach the Coast Guard on or before March 14, 2007.

ADDRESSES: The Working Group will meet at the Westin Arlington Gateway, 801 North Glebe Road, Arlington, VA 22203. Send written material and requests to make oral presentations to Mr. Gerald Miante, Commandant (CG-3PSO-1), U.S. Coast Guard Headquarters, 2100 Second Street SW., Washington, DC 20593-0001. This notice and related documents are available on the Internet at http://dms.dot.gov under the docket number USCG-2007-27372.

FOR FURTHER INFORMATION CONTACT: Mr. Gerald Miante, Assistant Executive Director of TSAC, telephone 202-372-1401, fax 202-372-1926, or e-mail Gerald.P.Miante@uscg.mil.

SUPPLEMENTARY INFORMATION: Notice of these meetings is given under the Federal Advisory Committee Act, 5 U.S.C. App. 2 (Pub. L. 92-463, 86 Stat. 770, as amended).

Agenda of Working Group Meetings

The agenda for the Towing Vessel Inspection Working Group tentatively includes the following items:

(1) Review draft sections of potential regulations currently under development;

(2) Develop recommendations concerning the draft sections for TSAC's consideration.

Procedural

The meetings are open to the public. Please note that the meetings may close early if all business is finished. At the Chair's discretion, members of the public may make oral presentations during the meeting. If you would like to make an oral presentation at the meeting, please notify the Assistant Executive Director (as provided above in FOR FURTHER INFORMATION CONTACT) no later than March 14, 2007. Written material for distribution at the meeting should reach the Coast Guard no later than March 14, 2007.

Information on Services for Individuals With Disabilities

For information on facilities or services for individuals with disabilities or to request special assistance at the meeting, contact Mr. Miante at the number listed in FOR FURTHER INFORMATION CONTACT as soon as possible.

Dated: February 28, 2007.
J.G. Lantz,
Director of Standards, Assistant Commandant for Prevention.

[FR Doc. E7-4469 Filed 3-12-07; 8:45 am]

BILLING CODE 4910-15-P